DEPARTMENT OF AGRICULTURE

Forest Service

Black Hills National Forest Travel Management Plan

AGENCY: Forest Service, USDA.

ACTION: Notice of intent to prepare an environmental impact statement.

SUMMARY: The Forest Service proposes to designate which routes (roads and trails) on federal lands administered by the Forest Service within the Black Hills National Forest are open to motorized travel. In so doing, the agency will comply with requirements of the Forest Service 2005 Travel Management Rule. Some areas were considered for cross-country travel designation, but no areas are included in this proposal. As a result of these travel management decisions, the Forest Service will produce a Motorized Vehicle Use Map (MVUM) depicting those routes on the Black Hills National Forest that will remain open to motorized travel. The MVUM will be the primary tool used to determine compliance and enforcement with motorized vehicle use designations on the ground. Those existing routes and other user-created routes not designated open on the MVUM will be legally closed to motorized travel. The decisions on motorized travel do not include over-snow travel or existing winter-use recreation.

DATES: Comments concerning the scope of the analysis must be received by November 9, 2007. The draft environmental impact statement is expected to be released in April 2008 and the final environmental impact statement is expected in September 2008.

ADDRESSES: Send written comments to Travel Management, Black Hills National Forest, 1019 North 5th Street, Custer, SD 57730. Electronic comments may be sent to comments-rocky-mountain-black-hills@fs.fed.us, with “Travel Management” in the subject line. Comments must be readable in Microsoft Word, rich text or pdf formats.

FOR FURTHER INFORMATION CONTACT: Tom Willems, Team Leader, at twillems@fs.fed.us or (605) 673-9200.

Purpose and Need for Action

The purpose and need for this action is to improve management of motorized vehicle use on National Forest System lands within the Black Hills National Forest in accordance with provisions of 36 CFR Parts 212, 251, 261, and 295 Travel Management; Designated Routes and Areas for Motor Vehicle Use; Final Rule.

Proposed Action

The proposed action is to designate selected roads and trails open to motorized travel (wheeled vehicles only) on lands administered by the Black Hills National Forest. Where it is appropriate and necessary, the designations will also set specific seasons of use and type of use for those roads and trails. In doing so, the Forest will comply with requirements of the Forest Service 2005 Travel Management Rule (36 CFR part 212). Some areas were considered for cross-country travel designation, but no areas are included in this proposal. As a result of these travel management decisions, the Black Hills National Forest will produce a Motor Vehicle Use Map (MVUM) depicting those routes and areas on the Forest that will remain open to motorized travel. The MVUM will be the primary tool used to determine compliance and enforcement with motorized travel designations on the ground. Those existing Forest Service routes, as well as other user-created routes, not designated open on the MVUM will be legally closed to motorized travel.

In order to implement the proposed action, it would be necessary to amend some existing direction and terminology in the Revised Forest Plan for the Black Hills National Forest. These changes to Plan direction would be enduring changes and would apply to this decision and all subsequent project decisions unless and until further modified.

Proposed travel management-related changes to the 1997 Black Hills National Forest Revised Land and Resource Management Plan are based on elements of the travel management rule, public meeting comments, District and Core Travel Management Team recommendations, Forest Leadership Team decisions, and the Black Hills National Forest Advisory Board (NFAB), Travel Management Subcommittee, recommendations. The goal is to provide a transportation system that is within the Black Hills National Forest's ability to manage (operate and maintain) and provides a variety of users with a diverse experience while minimizing impacts to resources.

The proposed transportation system open to motorized travel under this proposal would be a total of 3,998 miles. This is a change of 298 miles from the existing condition of approximately 3,700 miles. New project decisions could change this system without amending the Forest Plan.

The proposed transportation system was developed with extensive public input over a period of three years and addresses a variety of concerns, including access to private lands within the National Forest boundary, funding, access to the Forest for motorized and non-motorized recreation, and roads under the jurisdiction of county, state, and other federal agencies. Specifically, this transportation system would allow for a balance between various recreational uses of the Forest. It would provide for various forms of reasonable motorized use on a designated system of routes.

The proposed transportation system is depicted in detail on the Black Hills National Forest Travel Management Plan Proposed Action map (Map) located on the Forest Web site: http://www.fs.fed.us/r2/blackhills/recreation/travel_management/ohv.shtml. Other existing routes not shown on this map would not be open to public motorized travel. New routes would not be created except by written decision of an authorized Forest Service official. Unauthorized new routes would not be approved for public motorized travel. If this proposal is selected for implementation, the information on this map would become the Motor Vehicle Use Map (MVUM) required by regulation and agency policy.

A proposed Off Highway Vehicle (OHV) trail system is a significant element of the total transportation system in this proposal. It would accommodate the desire for a mix of different motorized recreation uses by a variety of motorized vehicles including All Terrain Vehicles (ATVs), motorcycles, and full-size off-road vehicles. The system would provide for a variety of different uses, including multi-scale looped routes, destination sites, and challenges such as rock crawling. This proposal follows the recommendation of the NFAB Travel Subcommittee.

This proposal is preparatory to a system of looped routes at several scales, with some dead-end routes leading to destination sites (such as cultural or special activity sites), or portal sites at municipal boundaries. Some of these loops are single-type use, but the majority are designated for mixed use. Mixed use is defined as use of a designated route by both highway legal and non-highway legal motor vehicles.

The proposed OHV trail system is depicted on the Map. Some roads and trails on this system are designated to accommodate more than one type of use. These mixed-use routes are designated on the Map. If this proposal is selected for implementation, the information on this map would become the Motor Vehicle Use Map (MVUM) required by regulation and agency policy. Only those routes shown on the MVUM would be authorized for motorized travel.

Under this proposal most of the route mileage would occur on existing Forest System routes currently open to motorized travel. However, this proposal also includes construction of short connector routes and designation of some currently unauthorized routes between existing Forest System routes.

It is our long-term goal to locate the majority of these designated routes away from communities and subdivisions. This would help reduce noise impacts to residents, as well as reduce the occurrence of single or privileged access by adjacent landowners. However, use on some routes would probably be audible to those living nearby.

Approximately 2,213 miles of Forest System roads would be designated for mixed-use, as “roads open to all vehicles,” and considered part of the proposed OHV Trail System. Forest System roads not considered for mixed-use would be designated as “roads open to highway legal vehicles only.” This would apply to approximately 1,075 miles of Forest Service roads that were not proposed to be part of the OHV Trail System.

This proposal would allow cross-country motorized game retrieval of legally harvested downed elk, within 300 feet from the centerline of specific designated routes, providing resource damage does not occur. Designated routes would be limited to only those routes located within management areas where off-route motorized travel is currently allowed by the Forest Plan. This includes and is limited to routes located within Management Areas 5.1, 5.1A, 5.3A, and 5.6. Game retrieval would not be allowed along routes located in management areas that do not currently allow off-route motorized travel, such as Wilderness, Norbeck Wildlife Preserve, Research Natural Areas, and Botanical Areas. The intent of this proposal would be to provide reasonable access to downed elk that are difficult to move long distances without motorized assistance. Motorized cross-country retrieval of deer, bighorn sheep, mountain goats, pronghorn, turkey, and other game animals would not be allowed under this proposal because these animals are small enough to retrieve without motorized assistance. This proposal is consistent with the recommendation of the NFAB Travel Subcommittee, the Rocky Mountain Region Consistency letter, 36CFR Part 212.51(8)(b), and recommendations from the South Dakota Department of Game, Fish and Parks. Designated routes off of which game retrieval would be allowed will be delineated on the MVUM.

This proposal would allow dispersed camping off designated routes, in certain areas, under certain conditions. In all cases where allowed, motorized vehicles would be restricted to within 100 feet for dispersed camping from the centerline of specific designated routes, using the most direct route to the camp site. This would allow for reasonable recreational use of the Forest while minimizing the potential for resource damage. This proposal follows the recommendation of the NFAB Travel Subcommittee. Designated routes along which dispersed camping would be allowed will be shown on the MVUM.

Under this proposal, off-road parking would be allowed along designated routes under certain conditions. Primary considerations in designating this policy were user safety and resource protection. Draft proposed FSM direction would allow parking off designated routes, not to exceed a distance of one vehicle length.

Public comments by other recreationists and private landowners during the past three years have identified excessive OHV sound as a major concern within the Forest. To adequately address these potential user conflicts in the future, a stationary sound limit of 96 dB(A) is proposed for OHVs operating on lands administered by the Black Hills National Forest. The Society of American Engineers (SAE) J1287 stationary sound test procedure will be used for determining compliance with OHV sound-level standards.

Responsible Official

The Responsible Official is Craig Bobzien, Forest Supervisor, Black Hills National Forest, 1019 North Street, Custer, SD 57730.

Nature of Decision To Be Made

Based on the purpose and need for the proposed action, the Forest Supervisor will evaluate the Proposed Action and other alternatives in order to make the following decisions for the specific National Forest System lands under his authority:

• Whether to designate certain routes as open to the public for motorized use;

• Whether to allow game retrieval; dispersed camping; off-road parking;

• The conditions of any such use, including the allowed season and/or type of use for those routes open to motorized travel;

• Whether to amend the Forest Plan direction for travel management.

Federal land managers are directed (Executive Order 11644, 36 CFR 212, and 43 CFR 8342.1) to ensure that the use of motorized vehicles and off-road vehicles will be controlled and directed so as to protect the resources of those lands, to promote the safety of users, minimize conflicts among the various uses of the federal lands, and to provide for public use of routes designated as open.

Public Involvement

Preliminary public involvement was initiated in 2003 in an effort to familiarize the public and stakeholders throughout the Black Hills region with the objectives of travel management. Between 2003 and 2007, the Black Hills National Forest hosted and participated in numerous public meetings and workshops in Wyoming and South Dakota.

Between 2004 and 2006, the OHV and Travel Management subcommittees of the Black Hills National Forest Advisory Board conducted a number of public meetings to solicit general comments on travel management. The meetings were held in South Dakota and Wyoming to discuss and review Subcommittee objectives and the current Forest Service national OHV policy direction, and outline plans for the future. The purpose of these meetings was to gather input to help develop recommendations for future OHV policy planning.

The Travel Management subcommittee also distributed a User Needs Assessment Questionaire solicit comments from both OHV and non-OHV users to evaluate the potential for establishing a designated Off-Highway Vehicle (OHV) trail system on the Black Hills National Forest. The 559 comments submitted helped the Subcommittee define opportunities for an OHV trail system and understand potential conflicts with other users.

The National Off-Highway Vehicle Conservation Council (NOHVCC) in cooperation with the Black Hills National Forest conducted an OHV Route Designation Workshop in October 2006 for agency personnel and the public. The purpose of this workshop was to assist the Forest Service and the public in effective implementation of the USFS Travel Management Rule.

Four “Travelways” Workshops were conducted by the Forest during November, 2006. The purpose of these workshops was to gather public input and ideas for the development of a proposed action. A product from these workshops was a collection of forest site specific information from participants after they completed a mapping exercise.

The public was also asked to provide input to the Forest Service on routes they wanted to remain open and/or those routes that may be in conflict with other desired conditions sought by the public on National Forest System lands. This initial public involvement ended in 2007 with the agency receiving numerous comments on individual routes, a large number of general comments, and some area-wide comments. This preliminary public input helped the Forest Service to develop this proposed action.

Scoping Process

The Forest Service will conduct meetings to solicit comments from the public and interested parties on this proposal.

The meetings are scheduled from 7 p.m. to 9 p.m. at the following locations:

Sundance, WY—September 10, 2007 (Monday), Crook County Courthouse, 309 Cleveland Street.

Rapid City, SD—September 11, 2007 (Tuesday), Best Western Ramkota Hotel (Rushmore Room), 2111 North LaCrosse Street.

Spearfish, SD—September 12, 2007 (Wednesday), Wilbur S. Tretheway Pavilion, 115 South Canyon Street.

Custer SD—September 13, 2007 (Thursday), Crazy Horse Memorial (Mountain View Room), Avenue of the Chiefs.

Notices of those meetings and requests for comments have been published in local newspapers.

Based on comments received as a result of this notice and after the Forest Service has conducted public meetings and afforded the public sufficient time to respond to the proposed action, the agency will use the public scoping comments along with resource related input for the interdisciplinary team and other agency resource specialists to develop a set of significant issues to carry forward into the environmental analysis process.

Preliminary Issues

The agency has received some indications of potential issues from the initial public involvement process conducted during the last several years. Those expected issues include:

(1) Resource damage caused by inappropriate types of vehicle use: (e.g. motorized vehicles in fragile or steep terrain), Proliferation of routes (e.g. parallel trails or roads, illegal travel off designated routes), and unrestricted season of use (e.g. routes open to motorized travel too long into the wet or muddy seasons).

(2) Disturbing or harming wildlife by using routes in important or critical wildlife habitat areas, too many roads in wildlife habitat areas, and disturbance to wildlife during critical lifecycle periods.

(3) Concerns about recreational opportunities, including loss of recreational opportunities when existing routes are closed to motorized travel, loss of semi-primitive and primitive recreational opportunity if more routes or areas are open to motorized travel, and how to appropriately and reasonably accommodate the fast growing number of motorized users desiring to use federal lands for recreational riding of OHVs.

(4) Concerns on how the system might be designed to facilitate effective enforcement.

(5) Safety concerns on routes where multiple vehicle types (e.g. full-sized trucks and cars, ATVs, motorcycles) are allowed.

The Forest Service recognizes that this list of issues is not complete and will be further defined and refined as scoping continues. The Forest service intends to develop a comprehensive list of significant issues before the full range of alternatives is developed and the environmental analysis is begun.

Comment Requested

This notice of intent initiates the scoping process which guides the development of the environmental impact statement for the Black Hills National Forest Travel Management Plan.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act of 40 CFR 1503.3 in addressing these points.

Comments received, including the names and addresses of those who comment, will be considered part of the public record on this proposal and will be available for public inspection.

(Authority: 40 CFR 1501.7 and 1508.22; Forest Service Handbook 1909.15, Section 21)

Dated: September 5, 2007.
Dennis Jaeger,
Deputy Forest Supervisor, Black Hills National Forest.

[FR Doc. 07-4427 Filed 9-10-07; 8:45 am]

BILLING CODE 3410-11-M